DEPARTMENT OF THE INTERIOR

National Park Service

[NPS-WASO-NAGPRA-NPS0036760; PPWOCRADN0-PCU00RP14.R50000]

Notice of Inventory Completion: Staten Island Institute of Arts and Sciences, Staten Island, NY

AGENCY: National Park Service, Interior.

ACTION: Notice.

SUMMARY: In accordance with the Native American Graves Protection and Repatriation Act (NAGPRA), the Staten Island Institute of Arts and Sciences (SIIAS) has completed an inventory of human remains and has determined that there is a cultural affiliation between the human remains and Indian Tribes or Native Hawaiian organizations in this notice. The human remains were removed from Richmond County, NY.

DATES: Repatriation of the human remains in this notice may occur on or after November 22, 2023.

ADDRESSES: Colleen Evans, Staten Island Institute of Arts and Sciences, 1000 Richmond Terrace Building A, Staten Island, NY 10301, telephone (718) 483-7104, email cevans@statenislandmuseum.org.

SUPPLEMENTARY INFORMATION: This notice is published as part of the National Park Service's administrative responsibilities under NAGPRA. The determinations in this notice are the sole responsibility of the SIIAS. The National Park Service is not responsible for the determinations in this notice. Additional information on the determinations in this notice, including the results of consultation, can be found in the inventory or related records held by the SIIAS.

Description

In 1897, human remains representing, at minimum, two individuals were removed from Burial Ridge in Tottenville, Staten Island, Richmond County, NY, during excavations led by Colonel Robert D. Wainwright. One skull was given to William T. Davis, who donated the individual to SIIAS in 1942. Stored along with this skull are five bags and three boxes containing the fragmentary human remains of at least one additional individual. Most likely, these human remains, too, derive from Col. Wainwright's excavation. No associated funerary objects are present.

In June 1927, human remains representing, at minimum, one individual were removed from Burial Ridge in Tottenville, Staten Island, Richmond County, NY, by J. Otis Swift, who gave them to the SIIAS. The human remains consist of 16 human bone fragments. No associated funerary objects are present.

During the spring of 1960, human remains representing, at minimum, one individual were removed from Burial Ridge in Tottenville, Staten Island, Richmond County, NY, by Jerome Jacobsen, an archeologist working with Columbia University. The University donated the individual to SIIAS in 1961. The human remains belong to an adult female. No associated funerary objects are present.

Cultural Affiliation

The human remains in this notice are connected to one or more identifiable earlier groups, tribes, peoples, or cultures. There is a relationship of shared group identity between the identifiable earlier groups, tribes, peoples, or cultures and one or more Indian Tribes or Native Hawaiian organizations. The following types of information were used to reasonably trace the relationship: geographical, oral traditional, and historical.

Determinations

Pursuant to NAGPRA and its implementing regulations, and after consultation with the appropriate Indian Tribes and Native Hawaiian organizations, the SIIAS has determined that:

• The human remains described in this notice represent the physical remains of four individuals of Native American ancestry.

• There is a relationship of shared group identity that can be reasonably traced between the human remains described in this notice and the Delaware Nation, Oklahoma; Delaware Tribe of Indians; and the Stockbridge Munsee Community, Wisconsin.

Requests for Repatriation

Written requests for repatriation of the human remains in this notice must be sent to the Responsible Official identified in ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or a culturally affiliated Indian Tribe or Native Hawaiian organization.

Repatriation of the human remains in this notice to a requestor may occur on or after November 22, 2023. If competing requests for repatriation are received, the SIIAS must determine the most appropriate requestor prior to repatriation. Requests for joint repatriation of the human remains are considered a single request and not competing requests. The SIIAS is responsible for sending a copy of this notice to the Indian Tribes identified in this notice.

Authority: Native American Graves Protection and Repatriation Act, 25 U.S.C. 3003, and the implementing regulations, 43 CFR 10.9, 10.10, and 10.14.

Dated: October 11, 2023.
Melanie O'Brien,
Manager, National NAGPRA Program.

[FR Doc. 2023-23280 Filed 10-20-23; 8:45 am]

BILLING CODE 4312-52-P